ENVIRONMENTAL PROTECTION AGENCY

[OPP-64043A; FRL-6550-8]

Azinphos-Methyl; Cancellation Order

AGENCY: Environmental Protection Agency (EPA).

ACTION: Notice.

SUMMARY: This order announces the use deletions and cancellations as requested by the companies that hold the registrations of pesticide products containing the active ingredient azinphos methyl and accepted by EPA, pursuant to section 6(f) of the Federal Insecticide, Fungicide, and Rodenticide Act (FIFRA). This order follows up a December 3, 1999, notice of receipt of requests for amendments to delete uses and receipt of a request for registration cancellations. In that notice, EPA indicated that it would issue an order confirming the voluntary use deletions and registration cancellations. As of April 19, 2000 any distribution, sale, or use of azinphos methyl products is only permitted in accordance with the terms of the existing stocks provisions of this cancellation order.

DATES: The cancellations are effective April 19, 2000.

FOR FURTHER INFORMATION CONTACT: Barry O'Keefe, Special Review and Reregistration Division (7508C), Office of Pesticide Programs, Environmental Protection Agency, Ariel Rios Bldg., 1200 Pennsylvania Ave., NW., Washington, DC 20460; telephone number: 703-308-8035; fax number: 703-308-8041; e-mail address: okeefe.barry@epa.gov.

SUPPLEMENTARY INFORMATION:

I. General Information

A. Does this Action Apply to Me?

This action is directed to the public in general. However, you may be potentially affected by this action if you manufacture, sell, distribute, or use azinphos methyl products. To determine whether you or your business may be affected by this action, you should carefully examine the applicability provisions in Unit I of this document. The Congressional Review Act, 5 U.S.C. 801 et seq., as added by the Small Business Regulatory Enforcement Fairness Act of 1996, does not apply because this action is not a rule, for purposes of 5 U.S.C. 804(3). Since other entities may also be interested, the Agency has not attempted to describe all the specific entities that may be affected by this action. If you have any questions regarding the applicability of this action to a particular entity, consult the technical person listed in the FOR FURTHER INFORMATION CONTACT section.

B. How Can I Get Additional Information, Including Copies of this Document and Other Related Documents?

1. Electronically. You may obtain copies of this document and certain other available support documents from the EPA Internet Home Page at http://www.epa.gov/. You may access this document by selecting “Laws and Regulations” on EPA's Home Page and then looking up the entry for this document under the “Federal Register—Environmental Documents.” You can also go directly to the “Federal Register” listings at http://www.epa.gov/fedrgstr/. To access information about the risk assessment for azinphos methyl, go to the Home Page for the Office of Pesticide Programs or go directly to http://www/epa.gov/oppsrrd1/op/azm.htm.

2. In person. The Agency has established an official record for this action under docket control number [OPP-64043A]. The official record consists of the documents specifically referenced in this action, any public comments received during an applicable comment period, and other information related to this action, including any information claimed as confidential business information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Highway, Arlington, VA, from 8:30 a.m. to 4 p.m., Monday through Friday, excluding legal holidays. The PIRIB telephone number is 703-305-5805.

II. Background

A. What Action is the Agency Taking?

In a memorandum of agreement (“Agreement”) effective August 2, 1999, EPA and a number of registrants of products containing azinphos methyl agreed to several voluntary measures to reduce the dietary, agricultural worker, and ecosystem risks associated with azinphos methyl exposure. As part of the Agreement, the signatory and non-signatory registrants, among other things, agreed to delete the use of azinphos methyl products on cotton in Louisiana and east of the Mississippi River, and on sugarcane, ornamentals (except for nursery stocks), Christmas trees, shade trees, and forest trees.

On December 3, 1999 (64 FR 67899) (FRL-6394-8), EPA published in the Federal Register a notice of the Agency's receipt of requests from the signatory registrants and one non-signatory registrant of pesticide products containing azinphos methyl to amend their registrations to delete the use of azinphos methyl products on cotton in Louisiana and east of the Mississippi River, and on sugarcane, ornamentals (except for nursery stocks), Christmas trees, shade trees, and forest trees pursuant to section 6(f)(1)(A) of FIFRA. The registrations for which amendments were requested are identified in Table 1 below. EPA also announced the request of one of the signatory registrants to cancel some of its registrations of pesticide products containing azinphos methyl. The registrations for which cancellation was requested are identified in Table 2.

Table 1.—Registrations With Requested Amendments
Company | Reg. No. | Product | SLNs
Bayer Corporation | 3125-108 | 85% Technical |
| 3125-102 | 22.2% Emulsifiable Concentrate |
| 3125-301 | 50% Wettable Powder | NJ9400300
Makhteshim Chemical Works, Ltd | 11678-4 | 85% Technical |
| 11678-53 | 85% Formulation Intermediate |
Makhteshim-Agan of North America, Inc | 66222-11 | 50% Wettable Powder |
| 66222-12 | 22.1% Emulsifiable Concentrate |
| 66222-16 | 22.1% Emulsifiable Concentrate |
Gowan Company | 10163-78 | 50% Wettable Powder | AZ94000800
| 10163-80 | 22.2% Emulsifiable Concentrate |
| 10163-95 | 85% Technical |
| 10163-138 | 35% Wettable Powder |
| 10163-139 | 35% Wettable Powder |
| 10163-180 | 50% PVA (Water Soluble Bags) |
Micro-Flo Corporation | 51036-76 | 22.2% Emulsifiable Concentrate |
| 51036-130 | 35% Wettable Powder |
| 51036-164 | 50% Water Dispensable Granules | AZ99000500
Platte Chemical Company | 34704-691 | 22.2% Emulsifiable Concentrate |

Table 2.—Registrations With Cancellation Requests
Company | Reg. No. | Product | SLNs
Micro-Flo Corporation | ᵃ51036-76 | 22.2% Emulsifiable Concentrate | TX89001100
| 51036-205 | 50% Wettable Powder |
| 51036-207 | 22.2% Emulsifiable Concentrate |
ᵃ Note that EPA Reg. No. 51036-76 is not being canceled; rather SLN TX89001100 is being canceled.

B. What is the Agency's Authority for Taking this Action?

In the December 3, 1999, FR Notice, EPA requested public comment on the voluntary cancellation and use deletion requests, and provided a 30-day comment period. The registrants requested that the Administrator waive the 180-day period provided under FIFRA section 6(f)(1)(C). No public comments were submitted to the docket in response to EPA's request for comments.

III. Cancellation Order

Pursuant to section 6(f) of FIFRA, EPA is approving the requested use deletions and the requested registration cancellations. Accordingly, the Agency orders that the registrations identified in Table 1 above are hereby amended to delete use on cotton in Louisiana and east of the Mississippi River, and on sugarcane, ornamentals (except for nursery stocks), Christmas trees, shade trees, and forest trees. The Agency also orders that the registrations identified in Table 2 are hereby canceled. Any distribution, sale, or use of existing stocks of the products identified in Tables 1 and 2 above in a manner inconsistent with the terms of this Order or the Existing Stock Provisions in Unit IV of this Federal Register Notice will be considered a violation of section 12(a)(2)(K) of FIFRA and/or section 12(a)(1)(A) of FIFRA.

IV. Existing Stocks Provisions

For purposes of this Order, the term “existing stocks” is defined, pursuant to EPA's existing stocks policy (56 FR 29362, June 26, 1991), as those stocks of a registered pesticide product which are currently in the United States and which have been packaged, labeled, and released for shipment prior to the effective date of the amendment or cancellation.

A. Distribution or Sale by Registrants

Unless existing stocks of products identified in Table 1 above have been relabeled in a manner consistent with the Agreement, the distribution or sale of such stocks by registrants is not lawful under FIFRA after April 19, 2000, except for the purposes of returns and relabeling, shipping such stocks for export consistent with the requirements of section 17 of FIFRA, or for proper disposal. The distribution or sale of existing stocks of products identified in Table 2 above by registrants is not lawful under FIFRA after April 19, 2000, except for the purposes of shipping such stocks for export consistent with the requirements of section 17 of FIFRA or for proper disposal.

B. Distribution or Sale by Other Persons

Unless existing stocks of products identified in Table 1 above have been relabeled in a manner consistent with the Agreement, the distribution or sale of such stocks by persons other than registrants is not lawful under FIFRA after April 19, 2000, except for the purposes of returns and relabeling, shipping such stocks for export consistent with the requirements of section 17 of FIFRA, or for proper disposal. The distribution or sale of existing stocks of products identified in Table 2 by persons other than registrants is not lawful under FIFRA after April 19, 2000, except for the purposes of shipping such stocks for export consistent with the requirements of section 17 of FIFRA or for proper disposal.

C. Use of Existing Stocks

The use of existing stocks of products identified in Tables 1 and 2 above on cotton in Louisiana and east of the Mississippi River, and on sugarcane, ornamentals (except nursery stock), Christmas trees, shade trees, and forest trees will be lawful under FIFRA until such stocks are depleted provided that the use is in accordance with either the directions for use contained in the Agreement or the existing labeling of that product.

List of Subjects

Environmental protection, pesticides and pests.

Dated: April 10, 2000.
Lois A. Rossi,
Director, Special Review and Reregistration Division, Office of Pesticide Programs.

[FR Doc. 00-9798 Filed 4-18-00; 8:45 am]

BILLING CODE 6560-50-F